DEPARTMENT OF HEALTH AND HUMAN SERVICES

Centers for Disease Control and Prevention

[Program Announcement 02179]

National Environmental Public Health Tracking Program; Notice of Availability of Funds

A. Purpose

The Centers for Disease Control and Prevention (CDC) announces the availability of fiscal year (FY) 2002 funds for a cooperative agreement program to support development of a National Environmental Public Health Tracking (Surveillance) Program. This program addresses the “Healthy People 2010” focus areas of Environmental Health and Public Health Infrastructure.

The purpose of this program is to (1) develop plans and components of a standards-based, coordinated, and integrated environmental public health tracking (surveillance) system at the state and national level that allows linkage and reporting of health effects data with human exposure data and environmental hazard data; and (2) to increase environmental public health capacity at the local, state, and national level.

This program deals specifically with chronic diseases and other non-infectious health effects that may be related to exposure to chemicals, physical agents, biomechanical stressors, or biologic toxins in the environment. Appendix I provides background information about environmental public health tracking (surveillance) and further describes the health effects and environmental factors targeted by this program. The need for an environmental public health tracking (surveillance) network was well documented by the Pew Environmental Health Commission in its report “America's Environmental Health Gap: Why the Country Needs a Nationwide Health Tracking Network”. The Internet address of this report is available in Appendix II.

Measurable outcomes of the program will be in alignment with the following performance goal for the National Center for Environmental Health (NCEH): Increase the understanding of the relationship between environmental exposures and health effects.

This program announcement contains two separate projects, Part A and Part B, in order to accommodate differences in existing environmental public health capacity and infrastructure at the state and local level. The applicant can only apply for Part A or Part B, but not both. These projects will move the nation toward improved environmental public health surveillance and response capacity for development of the National Environmental Public Health Tracking (surveillance) Network:

Part A: Planning, capacity building, and developing or enhancing health effect, exposure, and/or hazard surveillance systems that can be integrated into a statewide and national environmental public health tracking (surveillance) network.

Part B: Developing a blueprint for environmental public health tracking, developing or enhancing exposure and/or health effect surveillance systems and conducting projects to (1) demonstrate feasibility, (2) develop surveillance methods, and (3) assess the utility of linking and reporting health effect data with exposure and/or hazard data for the purpose of guiding appropriate public health action or practice.

Both the CDC and the Environmental Protection Agency (EPA) have other large ongoing efforts to develop, standardize, and promote electronic reporting of data and to improve collaboration across categorical programs. For example, currently all states have received funding from CDC to move toward implementation of the National Electronic Disease Surveillance System (NEDSS) (which to date has focused on infectious disease reporting) and bioterrorism preparedness. Appendix II contains the Internet addresses for NEDSS, the Public Health Information Technology Functions and Specifications (for Emergency Preparedness and Bioterrorism), and a list of state NEDSS coordinators. The Internet addresses for information on EPA's National Environmental Information Exchange Network are also provided in Appendix II.

B. Authority and Catalog of Federal Domestic Assistance Number

This program is authorized under section 301 of the Public Health Service Act, [42 U.S.C. 241], as amended. The Catalog of Federal Domestic Assistance number is 93.283.

C. Eligible Applicants

Assistance will be provided only to the health departments of States or their bona fide agents, including the District of Columbia. In consultation with States, assistance may be provided to the local health departments of Chicago IL, Houston TX, New York City, NY, Philadelphia PA, and Los Angeles County CA. Competition is limited to accommodate legislative appropriations language, which specifies capacity development of environmental health at state and local health departments.

These state/local health departments are invited to apply under either Part A or Part B of this announcement, but not both. Only one application will be accepted from eligible applicants.

The intent of this announcement is to build partnerships between and within environmental and health agencies/departments/staff, applicants under both Part A and Part B must demonstrate that their program will be a collaborative effort by including the following with their application:

1. A letter of intent signed by both the state (or local) Secretary/Director of Health or equivalent and the state (or local) Secretary/Director of Environmental Quality/Protection/Natural Resources or the equivalent agency/department confirming that partnerships exist or will be developed:

a. Across Health and Environmental Agencies/Departments. (Evidence of a partnership may be a confirmation of an existing memorandum of understanding (MOU) between Health and Environment that covers activities related to this program announcement).

b. Between appropriate organizational units within each Agency/Department.

c. If Health and Environment are organized under one State/local agency/department, a letter of intent from the Secretary/Director or equivalent of that agency/department confirming that partnerships exists or will be developed across appropriate organizational units within the Agency/Department is required.

2. Designation of public health liaison within the environmental agency/department and an environmental liaison within the health agency/department.

3. Eligible local health departments must provide assurances that activities related to this program will be coordinated with the State Health Department.

4. If the applicant is a bona fide agent of the State/local health department, a letter from the State/local health department designating the applicant as such must be provided.

These documents should be placed directly behind the face page (first page) of your application. Applications that fail to submit evidence requested above will be considered non-responsive and returned without review.

Note: Title 2 of the United States Code section 1611 states that an organization described in section 501(c)(4) of the Internal Revenue Code that engages in lobbying activities is not eligible to receive Federal funds constituting an award, grant or loan.

D. Availability of Funds

Part A

Approximately $6,000,000 is available in FY 2002 to fund approximately ten awards. It is expected that the average award will be $500,000, ranging from $400,000 to $600,000. It is expected that the awards will begin on or about September 30, 2002, and will be made for a 12-month budget period within a project period of up to three years. Funding estimates may change.

Part B

Approximately $4,000,000 is available in FY 2002 to fund approximately five awards. It is expected that the average award will be $700,000, ranging from $600,000 to $800,000. It is expected that the awards will begin on or about September 30, 2002, and will be made for a 12-month budget period within a project period of up to three years. Funding estimates may change.

Continuation awards within an approved project period will be made on the basis of satisfactory progress as evidenced by required reports and the availability of funds.

Matching funds is not a requirement for this program announcement.

E. Program Requirements

In conducting activities to achieve the purpose of this program, the recipient will be responsible for the activities under 1. Recipient Activities, and CDC will be responsible for the activities listed under 2. CDC Activities.

1. Recipient Activities

Part A

a. Develop and implement a work plan to address recipient activities 1.b through 1.o for Part A funding.

b. Evaluate existing environmental public health capacity and health surveillance and environmental monitoring and biomonitoring activities.

(1) Assess the capacity of health/environmental staff to analyze and build an environmental public health tracking network and to respond to potential environmental health problems. Identify training needs.

(2) Develop a comprehensive inventory of existing hazard and exposure monitoring and non-infectious health effect surveillance systems maintained at the state and local level.

(a) Describe the purpose and operation of the system and the resources used to operate the system as discussed in CDC's Updated Guidelines for Evaluating Public Health Surveillance Systems (Internet address for this document is listed in Appendix II) and refer to Appendix IV for Guidance for Preliminary Inventory and Future Assessment of Health Surveillance and Environmental Monitoring Information Systems.

(b) Describe how these systems have been used to affect public health action and policy.

(c) Evaluate existing organization, personnel, and technical infrastructure against CDC's Public Health Information Technology Functions and Specifications (for Emergency Preparedness and Bioterrorism) and NEDSS and EPA National Environmental Information Exchange Network architecture and specifications, and identify issues to be addressed for integrating/linking data and establishing the Environmental Public Health Tracking (surveillance) Network.

c. Develop partnerships with local, state, tribal, and Federal governments; health care providers; non-governmental organizations; and private for profit and nonprofit groups whose participation is critical to the success of the program. Partners should participate in the planning of a coordinated and integrated environmental public health tracking (surveillance) network.

d. Establish a planning consortium consisting of technical experts, community members and other key stakeholders who can provide substantive recommendations on planning and implementing a coordinated and integrated environmental public health tracking (surveillance) network. This group should meet at least quarterly to assist in planning.

e. Identify needs and concerns of governmental and non-governmental data users and stakeholders. Refer to the Protocol for Assessing Community Excellence in Environmental Health (PACE EH) for examples of how to generate citizen input (The PACE EH website is listed in Appendix II).

f. Prioritize state/local/other stakeholders' needs related to tracking of health effects, exposures, and hazards.

g. Examine existing state legislation and/or regulations to determine if additional authority is required to collect new data, integrate data, and share data (with appropriate security and confidentiality restrictions).

h. Develop training tools and provide training to state and local staff on surveillance methods, environmental assessment, biomonitoring, evaluation, risk communication, and other topics in collaboration with the Centers of Excellence for Environmental Public Health Tracking (see Appendix III).

i. Develop/enhance priority health effects, exposure, and/or hazard surveillance systems identified in Activity f. This effort can supplement existing activities, but funding associated with this effort should not supplant existing funding.

j. Develop a plan for staged development of a standard-based environmental public health tracking (surveillance) network that allows direct electronic data reporting and linkage within and across health effect, exposure, and hazard data and can interoperate with other public health systems. It is expected that the architecture and information technology functions and specifications used for enhancing existing data systems and developing an overall plan for the Environmental Public Health Tracking (surveillance) Network will be compatible with those being developed under other programs such as NEDSS, Bioterrorism, and EPA's National Environmental Information Exchange Network. (See Appendix II for the Internet addresses and a list of state NEDSS coordinators). The Environmental Public Health Tracking (surveillance) Network should be based on specifications and an environmental public health tracking logic model(s) as addressed in Activity m. below. These will follow data and technical specifications derived from industry standards for data types, code sets and vocabularies, messages for data exchange, and technology systems standards as available.

k. Discuss project accomplishments, barriers, and lessons learned with Environmental Public Health Tracking (surveillance) Program partners and other critical stakeholders by attending quarterly conference calls, attending meetings, and by posting information and queries to an environmental public health tracking website.

l. Develop and evaluate strategies for communicating information generated by an environmental public health tracking network and related program activities to diverse audiences.

m. Attend workgroups with Environmental Public Health Tracking (surveillance) Program partners (Appendix III) to develop standardized data definitions; examine the availability and applicability of existing data standards and data exchange messages (Industry standards include, but are not limited to the Health Level Seven (HL7) Reference Information Model and its vocabularies.); define new data specifications based on these standards as needed in collaboration with national standards setting organizations; define a logical data model and data exchange messages for implementing the Environmental Public Health Tracking (surveillance) Network; and set standards for completeness, timeliness, and quality for the Statewide and National Environmental Public Health Tracking (surveillance) Network.

n. Evaluate new/improved surveillance methods, training activities, and the impact of increased capacity on the applicant's ability to progress toward development of an integrated environmental public health tracking (surveillance) network. Refer to the Morbidity and Mortality Weekly Report titled “Framework for Program Evaluation in Public Health” (See Appendix II for website).

o. Examine the feasibility of using the Environmental Public Health Indicators (EPHI) Project for surveillance in collaboration with Centers of Excellence for Environmental Public Health Tracking (Appendix III). (See Appendix II for CDC EPHI Project website). Determine how proposed EPHIs fit into identified state and local priorities, examine whether the proposed EPHIs are realistic in terms of available data and integration of these data, assess whether the selected measures could be useful for state or local program and policy planning, and determine the accuracy of selected measures for community health assessment.

Part B

a. Develop and implement a work plan to address recipient activities 1.b through 1.o for Part B funding.

b. Prioritize state and local needs related to tracking of health effects, exposures, and hazards with the goal of incorporating these data into an environmental public health tracking (surveillance) network. This effort should take into account gaps in types of health effect surveillance, environmental exposure, and hazard information systems currently available to the applicant, the timeliness of reporting, completeness (in terms of population, facility, locales covered), data quality, technical infrastructure, compatibility with NEDSS and EPA's National Environmental Information Exchange Network, inclusion of data elements that would allow linkage to data sets, and stakeholders' needs (see Appendix IV for Guidance for Preliminary Inventory and Future Assessment of Health Surveillance and Environmental Monitoring Information Systems). The applicant may refer to (PACE EH) for examples of how to generate citizen input. (Appendix II).

c. Develop partnerships related to the development and implementation of the environmental public health tracking (surveillance) network with local, state, tribal, and Federal governments, health care providers and non-governmental organizations and other for-profit and nonprofit groups.

d. Establish a planning consortium consisting of technical experts, community members and other key stakeholders who can provide substantive recommendations on planning and implementing a coordinated and integrated environmental public health tracking (surveillance) network. This group should meet at least quarterly.

e. Examine existing state/local legislation and/or regulations to determine if additional authority is required to collect new data, integrate data, and share data (with appropriate security and confidentiality restrictions).

f. Develop training tools and provide training to state and local staff on surveillance practices, environmental assessment, biomonitoring, evaluation, and risk communication in collaboration with Centers of Excellence for Environmental Public Health Tracking (Appendix III).

g. As needed, enhance environmental public health capacity and tracking of health effects, exposures, and/or hazards. This effort can supplement existing activities, but funding associated with this effort should not supplant existing funding.

h. Develop a plan for staged development of a standards-based environmental public health tracking (surveillance) network that allows direct electronic data reporting and linkage within and across health effect, exposure, and hazard data and can interoperate with other public health systems. It is expected that the architecture and information technology functions and specifications used for enhancing existing data systems and developing an overall plan for the Environmental Public Health Tracking (surveillance) Network will be compatible with those being developed under other programs such as NEDSS, Bioterrorism, and EPA's National Environmental Information Exchange Network. (See Appendix II for the Internet addresses and a list of state NEDSS coordinators). The Environmental Public Health Tracking (surveillance) Network should be based on specifications and an environmental public health tracking logic model(s) as addressed in Activity m. These will follow data and technical specifications derived from industry standards for data types, code sets and vocabularies, messages for data exchange, and technology systems standards as available.

i. Implement a project to demonstrate (a) an approach for instituting direct electronic reporting and linkage of health effect data with exposure and/or hazard data and (b) the utility of this linked data in guiding public health policy and practice. This project should include at a minimum: one or more health effects with a possible relationship to the environment, one or more measures of human exposure, and/or one or more types of environmental hazard (as defined in section A and Appendix I). Selection of health effects/exposures/hazards should be in line with state/local priorities. Additionally, the project should include the analysis and dissemination of data in a timely manner for use in public health practice or environmental protection programs.

j. Conduct a comprehensive evaluation of this project and use lessons learned to guide/modify the applicant's plan for establishing an environmental public health tracking (surveillance) network. Refer to the Morbidity and Mortality Weekly Report titled “Framework for Program Evaluation in Public Health” (See Appendix II for website).

k. Discuss project accomplishments, barriers, and lessons learned with Environmental Public Health Tracking (surveillance) Program partners and other critical stakeholders by attending quarterly conference calls, attending meetings, and by posting information and queries to an environmental public health tracking website.

l. Develop and evaluate strategies for communicating information generated by an environmental public health tracking (surveillance) network and related program activities to diverse audiences.

m. Attend workgroups with Environmental Public Health Tracking (surveillance) Program partners to develop standardized data definitions; examine the availability and applicability of existing data standards and data exchange messages (Industry standards include, but are not limited to the HL7 Reference Information Model and its vocabularies.); define new data specifications based on these standards as needed in collaboration with national standards setting organizations; define a logical data model and data exchange messages for implementing the Environmental Public Health Tracking (surveillance) Network; and set standards for completeness, timeliness, and quality for the Statewide and National Environmental Public Health Tracking (surveillance) Network.

n. Examine the feasibility of using EPHI Project for surveillance in collaboration with Centers of Excellence for Environmental Public Health Tracking (Appendix III). (See Appendix II for CDC EPHI Project website). Determine how proposed EPHIs fit into identified state and local priorities, examine whether the proposed EPHIs are realistic in terms of available data and integration of these data, assess whether the selected measures could be useful for state or local program and policy planning, and determine the accuracy of selected measures for community health assessment.

o. Collaborate as needed with environmental public health tracking partners (Appendix III) on epidemiology studies.

2. CDC Activities

a. Provide technical assistance in work plan development, and the design and implementation of program activities, including analysis and dissemination of data.

b. Provide coordination between and among recipient organizations by assisting in the sharing of information through an environmental public health tracking website, an annual stakeholders meeting, and direct interactions.

c. Coordinate activities at the national level between Centers, Institutes and Offices at CDC and the Agency for Toxic Substances and Disease Registry and with other Federal Agencies such as the Environmental Protection Agency.

d. Ensure involvement of other key governmental and non-governmental partners in planning and development of the Environmental Public Health Tracking (surveillance) Network. These may include the Council of State and Territorial Epidemiologists, the Environmental Council of States, the Association of Public Health Laboratories, the Association of State and Territorial Health Officials, the National Association of City and County Health Officers, the National Association of Health Data Organizations, the American Lung Association, the American Medical Association, the American Water Works Association, Chronic Disease Directors, the North American Association of Central Cancer Registries, the National Birth Defects Prevention Network, and others.

e. Convene workgroups to develop standardized data definitions; examine the availability and applicability of existing data standards and data exchange messages (Industry standards include, but are not limited to the HL7 Reference Information Model and its vocabularies.); define new data specifications based on these standards as needed in collaboration with national standards setting organizations; define a logical data model and data exchange messages for implementing the Environmental Public Health Tracking (surveillance) Network; and set standards for completeness, timeliness, and quality for the Statewide and National Environmental Public Health Tracking (surveillance) Network.

f. Provide assistance in development of training materials on surveillance methods, evaluation, risk communication, and other topics.

g. Participate in the protocol development, study implementation, data analysis, interpretation of results, and dissemination of epidemiology study findings including report writing and oral presentation.

F. Content

Pre-Application Conference Call

Two pre-application conference calls are scheduled for interested applicants. These will occur August 1, 2002, from 1 to 3 p.m. (eastern standard time [EST]) and August 2, 2002, from 3 to 5 p.m. (EST). The purpose of these calls is to discuss program requirements and to respond to any questions regarding the program announcement. Two calls are scheduled in order to provide all applicants the opportunity to gather information and ask questions. It is not necessary to participate in both calls, though applicants are welcome to do so if they desire. To confirm your intent to participate and receive a meeting agenda and call-in instructions, applicants should send an e-mail or write Regina Seider at rseider@cdc.gov or 1600 Clifton Rd., NE, MS E19, Atlanta, GA 30333.

Letter of Intent (LOI)

A LOI is required for this program. The Program Announcement title and number must appear in the LOI. The narrative should be no more than two pages, double-spaced, printed on one side, with one-inch margins, and unreduced fonts. Your letter of intent will be used to enable CDC to determine level of interest in the announcement and estimate potential review workload, and should include the following information:

a. Number and title of the announcement.

b. Name, organization, address, telephone number, fax number, and e-mail address of the Principal Investigator(s).

c. Indication as to whether the applicant will be applying for Part A or Part B.

d. If applying for Part B, applicants should include a very brief description of the data linkage demonstration project being proposed.

Applications

The program announcement title and number must appear in the application. Use the information in the Program Requirements, Other Requirements, and Evaluation Criteria sections to develop the application content. Your application will be evaluated on the criteria listed, so it is important to follow them in laying out your program plan. The narrative should be no more than 35 pages, double-spaced, printed on one side, with one-inch margins, and unreduced fonts.

Applicants should also submit appendices including curriculum vitae, letters of support, organizational charts, and other similar supporting information. The total appendices should not exceed 25 pages, printed on one side.

All pages in the application should be clearly numbered and a complete index to the application and any appendices included. All materials should be provided in an unbound, one-sided, with one-inch margins, suitable for photocopying.

The applicant should provide a detailed description of first-year objectives and activities and briefly describe future-year objectives and activities. The application should contain the following:

Applicants for Part A or Part B

1. Executive Summary (2 pages, double-spaced)

Provide a clear concise summary of the application, which includes a description of the type of federal assistance requested (Part A or B) and the activities to be undertaken.

2. The Narrative

Should specifically address the “Program Requirements” and should contain the following sections:

a. Understanding of the need for environmental public health tracking (surveillance);

b. Existing resources and needs;

c. Collaborative relationships;

d. Operational plan and methods;

e. Organizational and program personnel capability;

3. Budget and Justification

a. Provide a detailed budget and line item justification of all proposed operating expenses consistent with the program activities described in this announcement.

b. The annual budget should include funding for three staff members to make three three-day trips to Atlanta for stakeholders/workgroup meetings and one two-day trip to Atlanta for a reverse site visit.

c. If applicable, applicants proposed contracts should include the name of the person or firm to be contracted, a description of services to be performed, an itemized and detailed budget including justification, the period of performance and the method of selection.

d. Funding levels for years two and three should be estimated.

G. Submission and Deadline

Letter of Intent (LOI)

On or before August 5, 2002, submit the LOI to the Grants Management Specialist identified in the “Where to Obtain Additional Information” section of this announcement.

Application

Submit the original and two copies of PHS 5161-1 (OMB number 0920-0428). Forms are available at the following Internet address: www.cdc.gov/od/pgo/forminfo.htm. Forms may also be obtained by contacting the Grants Management Specialist identified in the “Where to Obtain Additional Information” section of this announcement.

Application forms must be submitted in the following order:

Cover Letter

Table of Contents

Application

Budget Information Form

Budget Justification

Checklist

Assurances

Certifications

Disclosure Form

HIV Assurance Form (if applicable)

Human Subjects Certification (if applicable)

Indirect Cost Rate Agreement (if applicable)

Executive Summary

Narrative

Appendices

Application must be received by 5 p.m. EST, August 22, 2002. Applications may not be submitted electronically.

Submit the application to: Technical Information Management Section, PA#02179, Procurement and Grants Office, Centers for Disease Control and Prevention, 2920 Brandywine Road, Room 3000, Atlanta, GA 30341-4146.

Deadline: Applications shall be considered as meeting the deadline if they are received before 5 p.m. EST on the deadline date. Applicants sending applications by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Applications, which do not meet the above criteria, will not be eligible for competition and will be discarded. Applicants will be notified of their failure to meet the submission requirements.

H. Evaluation Criteria

Applicants are required to provide Measures of Effectiveness that will demonstrate the accomplishment of the various identified objectives of the grant or cooperative agreement. Measures of Effectiveness must relate to the performance goal (or goals) as stated in section “A. Purpose” of this announcement. Measures must be objective and quantitative and must measure the intended outcome. These Measures of Effectiveness shall be submitted with the application and shall be an element of evaluation.

An independent review group appointed by CDC will evaluate each application individually against the following criteria:

Applications for Part A

1. Operational Plan and Methods (30 points)

The extent to which the applicant has clearly described a proposed approach to carrying out the activities listed under Section E. This includes: (1) Descriptions of project objectives that are specific, measurable and realistic; inclusion of an implementation schedule/timeline that is reasonable and appropriately reflects major steps in recipient activities; (2) sound scientific methods for conducting needs assessments, evaluations, systems analysis and design, data linkage and other activities; (3) commitment to using existing standards and specifications referred to in recipient activities and to the development of specifications with environmental health tracking partners and standards setting organizations; and (4) a plan for coordination across existing surveillance activities to promote the development of a state-wide and national network of integrated and interoperable public health systems.

In order to address CDC Policy Requirements, the following should also be addressed: Does the application adequately address the CDC Policy requirements regarding the inclusion of women, ethnic, and racial groups in the proposed research? This includes:

a. The proposed plan for the inclusion of both sexes and racial and ethnic minority populations for appropriate representation.

b. The proposed justification when representation is limited or absent.

c. A statement as to whether the design of the study is adequate to measure differences when warranted.

d. A statement as to whether the plans for recruitment and outreach for study participants include the process of establishing partnerships with community(ies) and recognition of mutual benefits.

2. Existing Resources and Needs (20 points)

The extent to which the applicant has described the need for funding under Part A including the following: (1) A description of results from any previous needs assessments and inventories of hazard, exposure, and health tracking (surveillance) or a preliminary assessment and inventory of current needs and systems, (2) level of integration of current surveillance systems, (3) coordination with other state programs/initiatives to improve surveillance, (4) a description of existing and potential data sources, and (5)a description of existing computer hardware and software. (Guidance for Preliminary Inventory and Future Assessment of Health Surveillance and Environmental Monitoring Information Systems is included in Appendix IV.)

3. Collaborative Relationships (20 points)

The extent to which the applicant describes past, current and proposed collaborations with relevant organizations and agencies within the state/local government/tribal government (if applicable) and provides evidence that these organizations/agencies are willing to support and be actively involved in carrying out the project.

The extent to which the applicant describes past, current and proposed collaborations with other relevant organizations such as state medical associations, national organizations, and the Federal Government.

4. Understanding the Need for Environmental Public Health Tracking (Surveillance) (15 points)

The extent to which the applicant has a clear, concise understanding of the requirements, objectives, and purpose of the cooperative agreement. The extent to which the application reflects an understanding of the utility of environmental public health tracking (surveillance), the complexity of developing a state-wide (or local if applicant is not a state) network with direct electronic reporting and linkage capabilities, integration and standardization principles, and the importance of data dissemination.

5. Organizational and Program Personnel Capability (15 points).

The extent to which the proposed staffing, organizational structure, staff experience and background, job descriptions indicate that the applicant is capable of carrying out this program. The resumes/curricula vita of key personnel should be included in the application. The applicant should document commitment of staff and resources from both environment and health to the project. The resource documentation may be in the form of percent time dedicated to the project, in kind resources, travel, etc.

Applications for Part B

1. Operational Plan and Methods (35 points)

The extent to which the applicant has clearly described a proposed approach to carrying out the activities listed under Section E. This includes: (1) descriptions of project objectives that are specific, measurable and realistic; (2) inclusion of an implementation schedule/timeline that is reasonable and appropriately reflects major steps in recipient activities; (3) a protocol for conducting the pilot project that is methodologically sound, includes key stakeholders, and provides adequate justification for selection of the specific hazard/exposure/health effect data to be linked; (4) sound scientific methods for conducting needs assessments, evaluations, systems analysis and design, data linkage and other activities; (5) commitment to using existing standards and specifications referred to in recipient activities and to the development of specifications with environmental health tracking partners and standards setting organizations; and (6) a plan for coordination and integration across surveillance activities to promote the development of a state-wide and national network of interoperable public health systems.

In order to address CDC Policy Requirements, the following should also be addressed: Does the application adequately address the CDC Policy requirements regarding the inclusion of women, ethnic, and racial groups in the proposed research? This includes:

a. The proposed plan for the inclusion of both sexes and racial and ethnic minority populations for appropriate representation.

b. The proposed justification when representation is limited or absent.

c. A statement as to whether the design of the study is adequate to measure differences when warranted.

d. A statement as to whether the plans for recruitment and outreach for study participants include the process of establishing partnerships with community(ies) and recognition of mutual benefits.

1. Existing Resources and Needs (20 points)

The extent to which the applicant has described the need for funding under Part B including the following: (1) A description of results from any previous needs assessments and inventories of hazard, exposure, and health tracking (surveillance) or a preliminary assessment and inventory of current needs and systems, (2) level of integration of current surveillance systems, (3) coordination with other programs/initiatives to improve surveillance, (4) a description of existing and potential data sources, and (5) a description of the needed computer hardware and software to replace or upgrade existing resources. (See Appendix IV for Guidance for Preliminary Inventory and Future Assessment of Health Surveillance and Environmental Monitoring Information Systems).

3. Collaborative Relationships (20 points)

The extent to which the applicant describes past, current and proposed collaborations with relevant organizations and agencies within the State/local government/tribal government (if applicable) and provides evidence that these organizations/agencies are willing to support and be actively involved in carrying out the project. The extent to which the applicant describes past, current and proposed collaborations with other relevant external organizations such as state medical associations, national organizations, and the Federal Government.

1. Organizational and Program Personnel Capability (15 points)

The extent to which the proposed staffing, organizational structure, staff experience and background, and job descriptions indicate that the applicant is capable of carrying out this program. The resumes/curricula vitae of key personnel should be included in the application. The applicant should document commitment of staff and resources from both environment and health to the project. The resource documentation may be in the form of percent time dedicated to the project, in kind resources, travel, etc.

5. Understanding of the Need for Environmental Public Health Tracking (Surveillance) (10 points)

The extent to which the applicant has a clear, concise understanding of the requirements, objectives, and purpose of the cooperative agreement. The extent to which the application reflects an understanding of the utility of an environmental public health tracking (surveillance), the complexity of developing a state-wide (or local if applicant is not a state) network with direct electronic reporting and linkage capabilities, and the importance of data dissemination.

Part A and Part B

6. Budget and Justification (Not scored)

The extent to which the proposal demonstrates appropriateness and justification of the requested budget relative to the activities proposed.

7. Human Subjects Review (Not scored)

Does the application adequately address the requirements of Title 45 CFR Part 46 for the protection of human subjects? (Not scored; however, an application can be disapproved if the research risks are sufficiently serious and protection against risks is so inadequate as to make the entire application unacceptable).

I. Other Requirements

Technical Reporting Requirements

Provide CDC with the original plus two copies of:

1. Semi-annual progress reports (The progress report will include a data requirement that demonstrates measures of effectiveness). The progress report shall include the following items:

a. A brief project description.

b. A comparison of actual accomplishments to the goals and objectives established for the period.

c. In the case that established goals and objectives may not be accomplished or are delayed, documentation of both the reason for the deviation and the anticipated corrective action or a request for deletion of the activity for the project.

d. A financial summary of obligated dollars to date as a percentage of total available dollars.

e. Other pertinent information (i.e. curriculum vitae for new key personnel).

2. Financial status report, no more than 90 days after the end of the budget period.

3. Final financial and performance reports, no more than 90 days after the end of the project period.

Send all reports to the Grants Management Specialist identified in the “Where to Obtain Additional Information” section of this announcement.

The following additional requirements are applicable to this program. For a complete description of each, see Attachment IV of the application kit.

AR-1 Human Subjects Requirements

AR-2 Requirements for Inclusion of Women and Racial and Ethnic Minorities in Research

AR-7 Executive Order 12372 Review

AR-9 Paperwork Reduction Act Requirements

AR-10 Smoke-Free Workplace Requirements

AR-11 Healthy People 2010

AR-12 Lobbying Restrictions

AR-22 Research Integrity

J. Where To Obtain Additional Information

This and other CDC announcements, applications, and associated forms can be found on the CDC Home Page Internet address— http://www.cdc.gov. Click on “Funding” then “Grants and Cooperative Agreements.”

For business management technical assistance, contact:Mike Smiley, Grants Management Specialist, Procurement and Grants Office,Centers for Disease Control and Prevention, 2920 Brandywine Road, Room 3000 Atlanta, GA 30341-4146, Telephone number: (770) 488-2718,Email address: msmiley@cdc.gov.

For program technical assistance, contact:Sandy Thames, National Center for Environmental Health,Centers for Disease Control and Prevention, 1600 Clifton Rd. NE, MS-E19,Atlanta, GA 30338, Telephone number:(404) 498-1805,Email address: sthames@cdc.gov.

Dated: July 11, 2002.
Sandra R. Manning,
Director, Procurement and Grants Office, Centers for Disease Control and Prevention.

Appendix I

Background and Scope of Program

Public health surveillance is the ongoing, systematic collection, analysis, interpretation, and dissemination of data on health effects in a population for the purpose of preventing and controlling morbidity and mortality. An environmental public health tracking (surveillance) network allows linkage and reporting of data available from health effects surveillance data, exposure data (measures of contaminants in the human body), and environmental hazard data (measures of contaminants in the environment). A coordinated and integrated environmental public health tracking (surveillance) network will (1) provide information on levels of contaminants in the environment from available monitoring data, levels of actual exposure in the population, health effect rates, and spatial and temporal trends; (2) facilitate research on possible associations between health effects and exposures/hazards; and (3) measure the impact of interventions such as regulatory and prevention strategies. With this information, federal, state and local agencies will be better prepared to develop and evaluate effective public health action to prevent or control diseases across our nation. The applicant may want to review additional references listed in Appendix II.

In fiscal year 2002, Congress appropriated funds to the Centers for Disease Control and Prevention (CDC) for “development and implementation of a nationwide environmental public health tracking network and capacity development in environmental health in state and local health departments”. Toward this end, CDC is currently soliciting applications from state and local health departments through this program announcement.

It is important to note that this program announcement deals specifically with non-infectious diseases and other health effects that may be associated with environmental exposures. Health effects may include: birth defects, developmental disabilities, asthma and chronic respiratory disease, cancer, and neurological diseases. Additional environmentally related health effects targeted by “Healthy People 2010” and of interest to this program include health effects such as lead poisoning, pesticide poisoning, methemoglobinemia, and carbon monoxide poisoning. The applicant should refer to “Healthy People 2010” (objective 8-27 and related objectives from other focus areas [page 8-32]) for a complete list of “Healthy People 2010” targeted health effects. (The Internet address for “Healthy People 2010” is listed in Appendix II).

Environmental factors targeted by the National Environmental Public Health Tracking Program include chemicals, physical agents, biomechanical stressors, and biological toxins. The applicant should review the Environmental Health focus area of “Healthy People 2010” and the Pew Environmental Health Commission report, “America's Environmental Health Gap: Why the Country Needs a Nationwide Health Tracking Network”, for more information about targeted environmental factors. “Healthy People 2010” objectives for reducing human exposure to pesticides, heavy metals, persistent chemicals (such as dioxin), organochlorine compounds, air contaminants (outdoor and indoor), and other non-infectious agents contaminating the environment are pertinent to this environmental public health tracking initiative.

This program offers applicants an opportunity to form partnerships between state and local health and environmental agencies and to bridge across programs within each to achieve common goals. Appendix II provides examples of other CDC surveillance and capacity building projects and links to website descriptions for these projects. Additionally, the National Environmental Public Health Tracking program also offers applicants an opportunity to form partnerships to develop and carry out action plans with non-governmental organizations such as CDC funded Centers of Excellence for Environmental Public Health Tracking (Appendix III), the health insurance industry, health provider organizations, and non-traditional sources of data.

Appendix II

References

• CDC Environmental Public Health Indicators Project: http://www.cdc.gov/nceh/tracking/indicators.htm

• CDC National Electronic Disease Surveillance System (NEDSS): http://www.cdc.gov/nedss.

Public Health Data Conceptual Model: http://www.cdc.gov/nedss/DataModels/index.html.

• CDC Updated Guidelines for Evaluating Public Health Surveillance Systems: http://www.cdc.gov/mmwr/pdf/rr/rr5013.pdf.

• Environmental Protection Agency's National Environmental Information Exchange Network: The Information Integration Initiative: http://www.epa.gov/oei/iiilive.htm.

National Environmental Information Exchange Grant Program: http://www.epa.gov/neengprg.

State/EPA Information Management Workgroup: http://www.epa.gov/oei/imwg/.

Environmental Data Standards Council: http://www.epa.gov/edsc .

• Healthy People 2010: http://www.health.gov/healthypeople.

• PEW Environmental Health Commission Reports: “America's Environmental Health Gap: Why the Country Needs a Nationwide Health Tracking Network”: http://healthyamericans.org/resources/reports/healthgap.pdf.

• Protocol for Assessing Community Excellence in Environmental Health (PACE EH) (Note: First copy is free to all Local Public Health Agencies): http://www.naccho.org/prod87.cfm.

• Public Health Information Technology Functions and Specifications (for Emergency Preparedness and Bioterrorism): http://www.cdc.gov/cic/function-specs.

• Morbidity and Mortality Weekly Report: Sept 17, 1999: 48(rr-11): “Framework for Program Evaluation in Public Health”: http://www.cdc.gov/mmwr/preview/mmwrhtml/rr4811a1.htm.

• Thacker SB, Stroup DF, Parrish RG, Anderson HA. Surveillance in Environmental Public Health: Issues, Systems, and Sources. “American Journal of Public Health”, 86(5):633-8; 1996.

Related Projects

• Adult Blood Lead Epidemiology and Surveillance Program: http://www.cdc.gov/niosh/ables.html.

• Assessment Initiative: http://www.cdc.gov/epo/dphsi/ai/index.htm.

• ATSDR's Geographic Analysis Tool for Health and Environmental Research (GATHER): http://gis.cdc.gov/atsdr.

• Behavioral Risk Factor Surveillance System (BRFSS): http://www.cdc.gov/nccdphp/brfss/index.htm.

• Birth Defects Surveillance: http://www.cdc.gov/ncbddd/bd/bdsurv.htm.

• Childhood Lead Poisoning Prevention Branch: http://www.cdc.gov/nceh/lead/lead.htm.

• Chronic Disease Indicators: http://cdi.hmc.psu.edu.

• Council of State and Territorial Epidemiologists, Environmental Health Indicators: http://www.cste.org/pdffiles/Environmentalpublichealthindicators.pdf.

• Environmental Health Services Branch, CDC: http://www.cdc.gov/nceh/ehs/default.htm.

• Evaluation of State Websites for Data Dissemination: http://www.cdc.gov/epo/dphsi/ASB/orcmacro.htm.

• Hazardous Substances Emergency Events Surveillance: http://www.atsdr.cdc.gov/HS/HSEES.

• National Asthma Control Program: http://www.cdc.gov/nceh/airpollution/asthma/default.htm.

• National Program of Cancer Registries: http://www.cdc.gov/cancer/npcr/index.htm.

• NCHS Surveys and Data Collection Systems: http://www.cdc.gov/nchs/express.htm.

• Population-based Surveillance of Autism Spectrum Disorders and Other Developmental Disabilities: http://www.cdc.gov/ncbddd/dd/ddautism.htm#state.

• The Dataweb: http://www.thedataweb.org.

• Youth Risk Behavior Surveillance System (YRBSS): http://www.cdc.gov/nccdphp/dash/yrbs.

NEDSS Contacts
State | Contact | Address/Email/Phone
Alabama | Charles Woernle | Alabama Department of Public Health, The RSA Tower, 201 Monroe Street, Montgomery, AL 36130-3017, cwoernle@adph.state.al.us, 334-206-5325.
Alaska | Bernard Jilly | Chief, Public Health, 527 East 4th Avenue, Suite 7, Anchorage, AK 99501, Bernard_Jilly@health.state.ak.us, 907-269-7941.
Arizona | Ken K. Komatsu | Epidemiology Program Manager, Infectious Disease Epidemiology Section, Arizona Department of Health Services, 3815 N. Black Canyon Highway, Phoenix, Arizona 85015, kkomats@hs.state.az.us, 602-230-5932.
Arkansas | Talmage Holmes | Arkansas Department of Health, 4815 West Markham Street, Slot #32, Little Rock, AR 72205, tholmes@healthyarkansas.com, 501-661-2546.
California | Mark Starr | Department of Health Svcs., Surveillance and Statistics Section, 601 N. 7th Street, MS 486, PO Box 942732, Sacramento, CA 94234-7320, MStarr1@dhs.ca.gov, 916-445-5936.
Colorado | John McIntyre | Colorado Department of Public Health and Environment, 4300 Cherry Creek Drive South, Denver, Colorado 80246, jrmcinty@smtpgate.dphe.state.co.us, 303-692-2256.
Connecticut | Mathew L. Cartter | Epidemiology Program Coordinator, Connecticut Department of Public Health, 410 Capitol Avenue, MS 11EP1, Hartford, CT 06134, matt.cartter@po.state.ct.us, 860-245-4405.
Connecticut | James L. Hadler | State of Connecticut, Department of Public Health, Director, Division of Infectious Diseases, 410 Capitol Avenue, MS#11FDS, Hartford, CT 06134-0308.
Delaware | A. LeRoy Hathcock | State Epidemiologist, Delaware Division of Public Health, Health Monitoring & Program Consultation Section, Jesse Cooper Building, Federal and Waters Street, P.O. BOX 637, Dover, DE 19903, lhathcock@state.de.us, 302-739-5617.
Florida | Donald Ward | Florida Department of Health Bureau of Epidemiology, 4052 Bald Cypress Way, Bin A-12, Tallahassee, FL 32399-172, donald_ward@doh.state.fl.us, 850-245-4405.
Georgia | Carol Hoban | Surveillance Program Manager, Georgia Division of Public Health, 2 Peachtree St. NW, Suite 14.403, Atlanta, GA 30303, cahoban@dhr.state.ga.us, 404-657-2588.
Hawaii | Paul Effler | Hawaii Department of Health, 1250 Punchbowl Street, Room 443, Honolulu, HI 96813, pveffler@mail.health.state.hi.us, 808-586-8356.
Houston | Raouf R. Arafat | 8000 North Stadium Drive, Houston, TX 77054, rarafat@hlt.ci.houston.tx.us, 713-794-9185.
Illinois | Donald Kauerauf | Illinois Department of Health, 525 West Jefferson Street, Springfield, IL 62761, 217-782-3984.
Illinois | Sree Nair | 525 West Jefferson Street, Springfield, IL 62761, snair@idph.state.il.us, 217-557-0028.
Indiana | Hans Messersmith | Indiana State Department of Health, Epidemiology Resource Center, 3D, 2 North Meridian St., Indianapolis, IN 46204, hmessers@isdh.state.in.us, 317-233-7861.
Iowa | Cort Lohff | Iowa Department of Public Health, Lucas State Office Building, Des Moines, Iowa 50319, clohff@idph.state.ia.us, 515-281-4269.
Kansas | Gianfranco Pezzino | Kansas Department of Health and Environment, 1051 S Landon State Office Building, Topeka, KS 66612, gpezzino@kdhe.state.ks.us, 785-296-6536.
Kentucky | Michael Auslander | Kentucky Department of Health, Division of Epidemiology & Hlth Planning, 275 E. Main Street, HS2C-B, Frankfort, KY 40621, Mike.Auslander@mail.state.ky.us, 502-564-3418.
Los Angeles | Barbara Pavey | 313 N. Figueroa Street, Room 808, Los Angeles, CA 90012, bpavey@dhs.co.la.ca.us, 213-240-8353.
Los Angeles | David Dassey | Deputy Chief, Acute Communicable Disease Control, 313 N. Figueroa Street, #212, Los Angeles, CA 90012, ddassey@dhs.co.la.ca.us, 213-240-7941.
Louisiana | Karen Kelso | Louisiana Department of Health and Hospitals 1201 Capitol Access Road/P.O. Box 3214, Baton Rouge, LA 70821-3214, 504-568-5005.
Louisiana | Terri Wong | NEDSS Coordinator, Office of Public Health, 325 Loyola Avenue, Room 615, New Orleans, LA 70112, tswong@dhh.state.la.us, 504-568-2559.
Maine | Geoff Beckett | Maine Department of Human Services, Bureau of Health, 157 Captiol Street, Station House II, Augusta, ME 04333-0011.
Maine | Kathleen Gensheimer | Maine Department of Human Services, Bureau of Health, 157 Capitol Street, Station House II, Augusta, ME 04333-0011.
Maine | Paul Kuehnert | Maine Department of Human Services, Bureau of Health, 157 Capitol Street, Station House II, Augusta, ME 04333-0011, 207-287-5179.
Maine | Sandy Dyzak | Maine Bureau of Health, 11 State House Station, Augusta, Maine 04333-0011, sandra.dyzak@state.me.us, 207-287-5182.
Maryland | Dale Rohn | Chief, Division of Communicable Disease Surveillance, Maryland Department of Health and Mental Hygiene, rohndal@dhmh.state.md.us, 410-767-6701.
Massachusetts | Alfred Demaria | Massachusetts Department of Public Health, State Laboratory Institute, 303 South Street, Room 557, Jamaica Plain, MA 02130-3597, Alfred.DeMaria@state.ma.us, 617-983-6800.
Massachusetts | Michele Jara | Massachusetts Department of Public Health, 305 South Street, Rm 557, Jamaica Plain, MA 02130, Michele.jara@state.ma.us, 617-983-6569.
Michigan | Dr. Gillian A. | Director, Division of Communicable Disease and Immunization, Michigan Department of Community Health, 3423 N. Martin Luther King Blvd, Lansing, MI 48909, stoltmang@state.mi.us, 517-335-8159.
Minnesota | Debora Boyle | Minnesota Department of Health, 717 Delaware Street, SE, Minneapolis, MN 55440, Boyled1.POMPLS.MDHDOM@md, 612-676-5765.
Minnesota | Harry F. Hull | Minnesota Department of Health, 717 Delaware St. SE/P.O. Box 9441, Minneapolis, MN 55440-9441, 612-676-5508.
Mississippi | Joe Surkin | Surveillance Branch Director, Mississippi Department of Health, P.O. Box 1700, Jackson, MS 39218-1700, jsurkin@msdh.state.ms.us, 601-576-7725.
Missouri | Garland Land | Missouri Department of Health, 920 Wildwood, PO Box 570, Jefferson City, MO 65102, landg@mail.health.state.mo.us, 573-751-6272.
Montana | Jim Murphy | State of Montana Department of Public Health and Human Services, 1400 Broadway,Cogswells Building, C-216,Helena, MT 59620 jmurphy@state.mt.us, 406-444-0274.
Montana | Todd Damrow | State of Montana Department of Public Health and Human Services, 1400 Broadway,Cogswells Building, C-216,Helena, MT 59620.
Nebraska | Tom Safranek | Nebraska Health and Human Services, Department of Regulation and Licensure, 301 Centennial Mall South, PO Box 95007,Lincoln, NE 68508, tsafrane@hhs.state.ne.us, 402-471-0550.
Nevada | Drew Mather | Health Resource Analyst,Nevada State Health Division, 505 East King Street Room 101,Carson City, NV 89701, dmather@govmail.state.nv.us, 775-684-4152.
New Hampshire | Jesse Greenblatt | State Epidemiologist,New Hampshire Department of Health and Human Services, 6 Hazen Drive,Concord, NH 03301, jgreenbl@dhhs.state.nh.us, 603-271-4477.
New Hampshire | Veronica Malmberg | New Hampshire Department of Health and Human Services,Division of Community Support, 6 Haven Drive,Concord, NH 03301 vmalmberg@dhhs.state.nh.us, 603-271-4657.
New Jersey | Arnold Miller | Chief Information Officer,New Jersey State Department of Health & Senior Services,P.O. Box 360,Trenton, NJ 08625-0360, amiller@doh.state.nj.us, 609-633-9597.
New Mexico | Joan Baumbach | New Mexico Department of Health, 1190 S. St. Francis Dr.,Santa Fe, New Mexico 87502-6110, joanb@DOH.STATE.NM.US, 505-827-0011.
New York | Dale Morse | New York State Department of Health,Division of Epidemiology,Wadsworth Cnter, ESP, Room E127,P.O. Box 509,Albany, NY 12237-0509, dlm04@health.state.ny.us. 518-473-4959.
New York | Ivan Gotham | New York State Department of Health,Empire State Plaza, Corning Tower,Albany, NY 12237-0608, ijg01@health.state.ny.us, 518-473-1809.
New York | Perry Smith | New York State Department of Health,Empire State Plaza, Corning Tower,Albany, NY 12237-0608,PFS01@health.state.ny.us, 518-474-1055.
New York | Mike Davisson | New York State Department of Health, Room 148,Empire State Plaza, Corning Tower,Albany, NY 12237-0608,Mcd04@health.state.ny.us, 518-473-1809.
New York City | Polly Thomas | NYC Department of Health, 125 Worth Street, Room 315,New York, NY 10013, pthomas1@health.nyc.gov, 212-788-4398.
New York City | Marcelle Layton | New York City Department of Health, 125 Worth Street, Room 300, CN22A,New York, NY 10013, mlayton@health.nyc.gov, 212-442-3537.
New York City | Robert Brackbill | NYC Department of Health, 125 Worth Street, Room 315,New York, NY 10013, rbrackbi@health.nyc.gov, 212-788-5331.
North Carolina | Sandy Linthicum | Computer Consultant,NC Department of Health,Cooper Building,Raleigh, NC 27612, sandy.linthicum@ncmail.net, 919-715-7399.
North Carolina | Steve Cline | North Carolina Department of Health and Human Services, 1902 Mail Service Center,Raleigh, NC 27699-1902,919-733-3419.
North Dakota | Larry Shireley | North Dakota Department of Health, 600 East Boulevard Avenue, Dept. 301, Bismarck, ND 58505-0200, lshirele@state.nd.us, 701-328-2378.
Ohio | Robert Campbell | Ohio Department of Health, 246 North High Street, PO Box 118, Columbus, OH 43266-0118, bcampbel@gw.odh.state.oh.us, 614-466-0295.
Oklahoma | Lauri Smithee | Director, Communicable Disease Division, Oklahoma State Department of Health, 1000 NE 10th ? 0305, Oklahoma City, OK 73117, LaurieS@health.state.ok.us, 405-271-4060.
Oregon | Melvin Kohn | Department of Human Resources, State Health Division, 800 NE Oregon #21, Portland, OR 97232, Melvin.A.Kohn@state.or.us, 503-731-4023.
Oregon | Susan Strohm | NEDSS Project Manager, Oregon Health Division, 800 NE Oregon Street, Portland, OR 97232, susan.p.strohm@state.or.us, 503-872-6713.
Pennsylvania | David Andrews | PA Dept. of Health, 2150 Herr St., 2nd Floor, P.O. Box 8758, Harrisburg, PA 17105, daandrews@state.pa.us, 717-787-9764.
Pennsylvania | James Rankin | Commonwealth of Pennsylvania, Department of Health, PO Box 90, Harrisburg, PA 17108, JRankin@state.pa.us, 717-787-3350.
Philadelphia | Robert Levenson | Philadelphia Dept. of Public Health, 500 S. Broad Street, 2nd Floor, Philadelphia, PA 19146, bob.levenson@phila.gov, 215-685-6740.
Rhode Island | Thomas Bertrand | Rhode Island Department of Health, 3 Capitol Hill, Room 106, Providence, RI 02908, tomb@doh.state.ri.us, 401-222-3283.
South Carolina | James Gibson | South Carolina Department of Health & Environmental Control, 2600 Bull Street, Columbia, SC 29201, gibsonjj@columb60.dhec.state.sc.us, 803-898-0861.
South Carolina | Ken Stuber | Consultant, Bureau of Disease Control, South Carolina Department of Health and Environmental Control, P.O. Box 101106, Columbia, SC 29211, stuberk@columb20.dhec.state.sc.us, 803-256-4406.
South Dakota | Debra Nold | BIT-Programmer, State of South Dakota, 500 East Capitol, Pierre, SD 57501, debra.nold@state.sd.us, 605-773-6832.
Tennessee | Allen Craig | State of Tennessee Department of Health, 425 5th Avenue, North, Nashville, TN 37247, acraig@mail.state.tn.us, 615-741-7247.
Texas | Julie Rawlings | Texas Department of Health, 1100 West 49th Street, Austin, TX 78756-3199, julie.rawlings@tdh.state.tx.us, 512-458-7228.
Utah | Abdoul Shmohamed | Epidemiologist II, NEDSS Project Coordinator, Utah Department of Health, 288 North 1460 West, P.O. Box 142104, Salt Lake City, Utah 84114-210, Ashmoham@doh.state.ut.us, 801-538-6191.
Utah | Charles Brokopp | Utah Department of Health/Box 142102, 288 North 1460 West, Salt Lake City, UT 84114-2104, cbrokopp@doh.state.ut.us, 801-538-6129.
Utah | Sam LeFevre | Utah Department of Health/Box 142102, 288 North 1460 West, Salt Lake City, UT 84114-2104.
Vermont | Arthur Limacher | Chief of Information Services, Vermont Department of Health, 108 Cherry Street, P.O. Box 70, Burlington, VT 05402-0070, alimach@vdh.state.vt.us, 802-863-7294.
Vermont | Patsy Tassler | Vermont Department of Health, 108 Cherry St., Burlington, VT 05401, 802-863-7240.
Virginia | Diane Woolard | Director, Virginia Department of Health, P.O. Box 2448, Room 113, Richmond, VA 23218, dwoolard@vdh.state.va.us, 804-786-6261.
Washington | Gregory Smith | NEDSS Development Director, DOH/EHSPHL, 1101 Eastside St., Olympia, WA 98504, Greg.Smith@DOH.WA.GOV, 360-236-4099.
Washington | Jac Davies | Washington State Department of Health Epidemiology, Health Statistics and Public Health Lab, 1102 SE Quince Street, PO Box 47811, Olympia, WA 98504-7811, jac.davies@doh.wa.gov, 206-361-4883.
West Virginia | Judy Ray | Health Information Systems Coordinator, West Virginia Department of Health and Human Resources, 350 Capitol Street, Room 702, Charleston, WV 25301, judyray@wvdhhr.org, 304-558-0056.
West Virginia | Loretta Haddy | West Virginia Department of Health and Human Resources, 350 Capitol Street, Room 125, Charleston, WV 25301-3715, lorettahaddy@wvdrrh.org, 304-558-5358.
Wisconsin | Larry Hanrahan | State of Wisconsin Dept of Health and Family Services, 1 W. Wilson Street, Room 150, PO Box 2659, Madison, WI 53701-2659 hanralp@dhfs.state.wi.us, 608-267-7173.
Wisconsin | Mary Proctor | State of Wisconsin Dept of Health and Family Services, 1 W. Wilson Street, Room 150, PO Box 2659, Madison, WI 53701-2659.
Wyoming | Karl Musgrave | Wyoming Department of Health, 2300 Capitol Avenue, Hathaway Building, 4th floor, Cheyenne, WY 82002, kmusgr@state.wy.us, 307-777-7172.
Wyoming | Ken Gillaspie | NEDSS Coordinator, Wyoming Department of Health, 2300 Capitol Avenue, Hathaway Building, Room 437, kgilla@state.wy.us, 307-777-7146.

Appendix III

Centers of Excellence for Environmental Public Health Tracking

In fiscal year 2002, Congress appropriated funds to CDC for development and implementation of a nationwide environmental public health tracking (surveillance) network and infrastructure and capacity development in environmental health at State and local health Departments. Toward this end, CDC is currently soliciting applications (Program Announcement 02180) from U.S. Schools of Public Health accredited by the Council on Education of Public Health to collaborate with CDC, state health departments, and other relevant agencies and organizations to:

1. Participate in the development of definitions, standards, and systems models related to environmental public health tracking (surveillance);

2. Evaluate current surveillance methodology and develop innovative, cost-effective data collection strategies;

3. Develop data linkage methods for combined analysis of health and environmental data;

4. Develop statistical algorithms for state and local environmental public health programs to analyze trends and detect patterns of health effect occurrence, population exposure, or hazard levels in the environment that may indicate a problem;

5. Collaborate with CDC and state and local health departments to conduct an epidemiology study examining the relationship between a health effect and an environmental exposure and/or hazard;

6. Support health departments in determining the feasibility of using proposed Environmental Public Health Indicators in public health practice;

7. Communicate with CDC and state and local environmental public health tracking (surveillance) network partners about project accomplishments, barriers, and lessons learned;

8. Develop and evaluate strategies for communicating environmental health effect, exposure, and hazard information that take into account risk perspective differences among various audiences;

9. Provide training as needed to state and local partners funded under CDC's Environmental Public Health Tracking (surveillance) Program and other critical stakeholders on surveillance methods, environmental assessment, biomonitoring, evaluation, and risk communication.

The purpose of funding these Centers is to provide expertise and support to CDC and State and local health departments in (1) the development and utilization of data from state and national environmental public health tracking (surveillance) networks and (2) the investigation of the potential links between health effects and the environment.

Appendix IV

Guidance for Preliminary Inventory and Future Assessment of Health Surveillance and Environmental Monitoring Information Systems

A. Preliminary inventory included in this application: The applicant should briefly describe any surveillance/ongoing monitoring systems currently operating within the state/locale that systematically collect data on the occurrence or levels of the following:

1. Non-infectious diseases and other health effects described in Section A of the program announcement or Appendix I.

2. Human exposures to chemical or physical agents, biomechanical stressors, and biological toxins.

3. Environmental hazards including chemical or physical agents, biomechanical stressors, biologic toxins (e.g., criteria air pollutants, noise, harmful algal blooms). The description should address the following features of each system:

1. Coverage—statewide, regional, specific to a subpopulation.

2. Source—vital statistics, medical records, Medicaid, insurance databases, area environmental monitoring, facility monitoring.

3. Reference year—year system began operation.

4. Timeliness—length of time between diagnosis/testing/environmental sampling and reporting to appropriate state/local agency.

5. Types of data elements—general categories such as geographic coordinates, demographics, measurements.

6. Mode of reporting—active vs. passive system; electronic (diskette, web-based, etc) vs. paper, etc).

7. Use of data—Has data been analyzed and reported to appropriate stakeholders? Has it been used in planning public health actions, hazard mitigation, special studies, etc?

B. Future assessment of health surveillance and environmental monitoring information systems: Future assessment of current surveillance information systems should include the following information on personnel, management practices and technical infrastructure.

1. A description of the health department and environmental department information technology (IT) infrastructure and architecture.

a. Describe relevant policies; the organization and decision-making processes; and decision-making responsibility and authority for surveillance and related IT in the health and environmental departments. Describe how they relate to state policies, etc. How does the loci of decision-making for surveillance and IT relate to one another and how are decisions made regarding IT for surveillance. Also, provide a description of how cross-program decisions are made.

b. Describe current technical infrastructure, including comments on: (1) whether the health department and environmental departments have a local area network that supports TCP/IP; (2) whether the health department and environmental department have firewalls; (3) what kind and version of server is used in the health department and environmental department (e.g., NT, Unix, other); (4) are local health departments included in state health department intranet? Are local environmental departments included in state environmental intranet? If so, through what kind of connection?

2. Comprehensive description of public health surveillance and environmental monitoring information systems.

a. Describe the purpose, scope, and capabilities of each system.

b. Describe the technical characteristics of each system, including information about the number and kind of platforms and technologies, and tools used (specifically, include information about communications and networking technologies).

c. Enumerate and describe functions of personnel dedicated to each system (e.g., epidemiologists, programmers, data base managers, data entry personnel, support staff).

d. Examine the comparability of data element specifications, data sources, and methods of data collection.

3. Describe the administration and operation of the health department's network, including staff and resources currently in place to support it, functions performed, and relationship to the state government's network administration and support.

4. Describe surveillance systems software development capacity, including resources in place to support this capacity, and description of current activities.

5. Identify current sources of support for surveillance and related IT (e.g., Federal funds other than the Environmental Public Health Tracking (surveillance) Network, State funds, etc.).

6. Describe interaction between state public health surveillance and environmental monitoring information systems and local health departments.

C. Additional guidance: Applicants should contact their State NEDSS Coordinator to determine if information obtained through NEDSS assessment and planning activities can contribute to the activities required in this program announcement.

[FR Doc. 02-18111 Filed 7-17-02; 8:45 am]

BILLING CODE 4163-18-P